DEPARTMENT OF HOUSING AND URBAN DEVELOPMENT

[Docket No. FR-7080-N-17]

30-Day Notice of Proposed Information Collection: Home Equity Conversion Mortgage (HECM) Insurance Application for the Origination of Reverse Mortgages and Related Documents, OMB Control No.: 2502-0524

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: April 26, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on October 31, 2023 at 88 74505.

A. Overview of Information Collection

Title of Information Collection: Home Equity Conversion Mortgage (HECM) Insurance Application for the Origination of Reverse Mortgages and Related Documents.

OMB Approval Number: 2502-0524.

Type of Request: Revision of currently approved collection.

Form Number: HUD-92901, HUD-92902, HUD-92051, HUD-92541, HUD-92544, HUD-92561, HUD-92564-CN, HUD-92800.5b, HUD-92900-A, HUD 92900-C, HUD-1, HUD-1a, HUD-9991, HUD-9992, FNMA-1003, FNMA-1004, FNMA-1004C, FNMA-1004D, FNMA-1007, FNMA-1009, FNMA-1025, FNMA-1073, FNMA-1103, NPMA-99A, NPMA-99B.

Description of the need for the information and proposed use: The Home Equity Conversion Mortgage (HECM) program is the Federal Housing Administration's (FHA) reverse mortgage program that enables seniors who have equity in their homes to withdraw a portion of the accumulated equity. The intent of the HECM Program is to ease the financial burden on elderly homeowners facing increased health, housing, and subsistence costs at a time of reduced income. The currently approved information collection is necessary to screen mortgage insurance applications in order to protect the FHA insurance fund and the interests of consumers and potential borrowers.

Form HUD-92901, Home Equity Conversion Mortgage (HECM) Anti-Churning Disclosure has been revised to: (1) update the Privacy Act notice and Notice the Borrower; (2) include the purpose of the disclosure and Public Reporting Burden Statement; (3) wholly revise the table for the mortgagee's best estimate of the total cost of the refinancing to the borrower and increase in the borrower's principal limit; (4) added a mortgagee's certification and revised the borrower's acknowledgement; (5) included a warning of the actions that may be taken against anyone who knowingly submits a false claim or makes a false statement.

HUD also seeks to transition from the discontinued Fannie Mae form 1009, Residential Loan Application for Reverse Mortgages to Fannie Mae form 1003, Uniform Residential Loan Application that is also used in the mortgage industry by Government Sponsored Enterprises to originate conventional mortgages. HUD plans to replace its use of form HUD 92900-A, HUD/VA Addendum to Uniform Residential Loan Application with form HUD 92900-C, HUD Addendum to Uniform Residential Loan Application for Reverse Mortgages. The purpose of form HUD 92900-C is to collect loan-level data that is needed for insuring purposes and not found on Fannie Mae form 1003. The standard loan application to originate a HECM will comprise Fannie Mae form 1003, form HUD-92900-C, and Fannie Mae form 1103, Supplemental Consumer Information Form, which has been adopted by the mortgage industry and is being added to this information collection.

This collection is being revised to also to add the model Home Equity Conversion Mortgage (HECM) Program Disclosure to serve as a compliance aid for mortgagees to satisfy the regulatory requirements at 24 CFR 206.13 by providing borrowers with a disclosure the explains all products, features, and options of the HECM program that HUD will insure.

Respondents: Mortgagees.

Estimated Number of Respondents: 224.

Estimated Number of Responses: 444,408.

Frequency of Response: Varies.

Average Hours per Response: 0.05 to 2.00.

Total Estimated Burdens: $20,425,126.14.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-06506 Filed 3-26-24; 8:45 am]

BILLING CODE 4210-67-P